DEPARTMENT OF LABOR

Employment and Training Administration

[TA-W 54,939]

TI Group Automotive Systems LLC, Greenville, TN; Notice of Termination of Investigation

Pursuant to section 221 of the Trade Act of 1974, as amended, an investigation was initiated on March 29, 2004, in response to a petition filed by a company official on behalf of workers at TI Group Automotive Systems LLC, Greenville, Tennessee.

The petitioner has requested that the petition be withdrawn. Consequently, the investigation has been terminated.

Signed in Washington, DC this 2nd day of June, 2004.
Richard Church,
Certifying Officer, Division of Trade Adjustment Assistance.

[FR Doc. 04-13378 Filed 6-14-04; 8:45 am]

BILLING CODE 4510-30-P